DEPARTMENT OF VETERANS AFFAIRS

Advisory Committee on Homeless Veterans, Notice of Meeting

The Department of Veterans Affairs (VA) gives notice under the Federal Advisory Committee Act that a meeting of the Advisory Committee on Homeless Veterans will be held September 13-15, 2017. The meeting sessions will take place at the Harbor Homes, Inc. at 77 Northeastern Blvd., Nashua, NH 03062. Sessions are open to the public, except when the Committee is conducting tours of VA facilities, participating in off-site events, and participating in workgroup sessions. Tours of VA facilities are closed, to protect Veterans' privacy and personal information.

The purpose of the Committee is to provide the Secretary of Veterans Affairs with an on-going assessment of the effectiveness of the policies, organizational structures, and services of VA in assisting Veterans at-risk and experiencing homelessness. The Committee shall assemble and review information related to the needs of homeless Veterans and provide advice on the most appropriate means of providing assistance to that subset of the Veteran population. The Committee will make recommendations to the Secretary regarding such activities.

On Wednesday, September 13, the Committee will convene an open session at the Harbor Homes, Inc., 77 Northeastern Blvd., Nashua, NH 03062, from 8:00 a.m. to 12:00 p.m. The agenda will include briefings from officials at VA and other agencies regarding services for homeless Veterans. From 1:00 p.m. to 5:00 p.m., the Committee will convene closed sessions, as it tours a Grant and Per Diem project at the Harbor Care Health and Wellness Center, 45 High Street, Nashua, NH 03062. These sessions are closed in accordance with 5 U.S.C Sec. 552b(c)(6). Tours of VA facilities are closed, to protect Veterans' privacy and personal information.

The meeting sessions on Thursday, September 14 and Friday, September 15 are open to the public. On both days, the meeting will begin at 8:00 a.m. On September 14, the meeting will end at 5:00 p.m.; and on September 15, the meeting will adjourn at 12:00 p.m. The agenda include briefings from officials at VA and other agencies. The Committee will also receive a briefing on the annual report that was developed after the last meeting of the Advisory Committee on Homeless Veterans and will then discuss topics for its upcoming annual report and recommendations to the Secretary of Veterans Affairs.

No time will be allocated at this meeting for receiving oral presentations from the public. Interested parties should provide written comments on issues affecting homeless Veterans for review by the Committee to Mr. Anthony Love, Designated Federal Officer, VHA Homeless Programs Office (10NC1), Department of Veterans Affairs, 90 K. Street NE., Washington, DC, or via email at Anthony.Love@va.gov.

Members of the public who wish to attend should contact Charles Selby and/or Alexandra Logsdon of the Veterans Health Administration, Homeless Programs Office no later than August 30, 2017, at Charles.Selby@va.gov (202) 632-8593 or Alexandra.Logsdon@va.gov (202) 632-7146 to provide their name, professional affiliation, address, and phone number. There will also be a call-in number at 1-800-767-1750; Access Code: 53308#. Attendees who require reasonable accommodation should state so in their requests.

Date: August 17, 2017.
Jelessa M. Burney,
Federal Advisory Committee Management Officer.

[FR Doc. 2017-17715 Filed 8-21-17; 8:45 am]

BILLING CODE P